NATIONAL FOUNDATION ON THE ARTS AND THE HUMANITIES

Meetings of Humanities Panel

AGENCY: The National Endowment for the Humanities.

ACTION: Notice of meetings.

SUMMARY: Pursuant to the provisions of the Federal Advisory Committee Act (Pub. L. 92-463, as amended), notice is hereby given that the following meetings of the Humanities Panel will be held at the Old Post Office, 1100 Pennsylvania Avenue, NW., Washington, DC 20506.

FOR FURTHER INFORMATION CONTACT: Daniel Schneider, Advisory Committee Management Officer, National Endowment for the Humanities, Washington, DC 20506; telephone (202) 606-8322. Hearing-impaired individuals are advised that information on this matter may be obtained by contacting the Endowment's TDD terminal on (202) 606-8282.

SUPPLEMENTARY INFORMATION: The proposed meetings are for the purpose of panel review, discussion, evaluation and recommendation on applications for financial assistance under the National Foundation on the Arts and the Humanities Act of 1965, as amended, including discussion of information given in confidence to the agency by the grant applicants. Because the proposed meetings will consider information that is likely to disclose trade secrets and commercial or financial information obtained from a person and privileged or confidential and/or information of a personal nature the disclosure of which would constitute a clearly unwarranted invasion of personal privacy, pursuant to authority granted me by the Chairman's Delegation of Authority to Close Advisory Committee meetings, dated July 19, 1993, I have determined that these meetings will be closed to the public pursuant to subsections (c)(4), and (6) of section 552b of title 5, United States Code.

1. Date: August 2, 2004.

Time: 8:30 a.m. to 5 p.m.

Room: 315.

Program: This meeting will review applications for African and Near Eastern Studies in Fellowships, submitted to the Division of Research Programs at the May 1, 2004, deadline.

2. Date: August 3, 2004.

Time: 8:30 a.m. to 5 p.m.

Room: 315.

Program: This meeting will review applications for American History and Studies I in Fellowships, submitted to the Division of Research Programs at the May 1, 2004, deadline.

3. Date: August 3, 2004.

Time: 8:30 a.m. to 5 p.m.

Room: 415.

Program: This meeting will review applications for American History and Studies II in Fellowships, submitted to the Division of Research Programs at the May 1, 2004, deadline.

4. Date: August 4, 2004.

Time: 8:30 a.m. to 5 p.m.

Room: 315.

Program: This meeting will review applications for Film, Media and Technology in Fellowships, submitted to the Division of Research Programs at the May 1, 2004, deadline.

5. Date: August 5, 2004.

Time: 8:30 a.m. to 5 p.m.

Room: 315.

Program: This meeting will review applications for Music in Fellowships, submitted to the Division of Research Programs at the May 1, 2004, deadline.

6. Date: August 6, 2004.

Time: 8:30 a.m. to 5 p.m.

Room: 315.

Program: This meeting will review applications for Romance Studies in Fellowship, submitted to the Division of Research Programs at the May 1, 2004, deadline.

7. Date: August 9, 2004.

Time: 8:30 a.m. to 5 p.m.

Room: 315.

Program: This meeting will review applications for Sociology, Anthropology, and Psychology in Fellowships, submitted to the Division of Research Programs at the May 1, 2004, deadline.

8. Date: August 10, 2004.

Time: 8:30 a.m. to 5 p.m.

Room: 315.

Program: This meeting will review applications for Medieval and Early Modern Studies in Fellowships, submitted to the Division of Research Programs at the May 1, 2004, deadline.

9. Date: August 10, 2004.

Time: 8:30 a.m. to 5 p.m.

Room: 415.

Program: This meeting will review applications for Ancient and Medieval Studies in Fellowships, submitted to the Division of Research Programs at the May 1, 2004, deadline.

10. Date: August 11, 2004.

Time: 8:30 a.m. to 5 p.m.

Room: 315.

Program: This meeting will review applications for Latin American Studies II in Fellowships, submitted to the Division of Research Programs at the May 1, 2004, deadline.

11. Date: August 12, 2004.

Time: 8:30 a.m. to 5 p.m.

Room: 315.

Program: This meeting will review applications for American History III in Fellowships, submitted to the Division of Research Programs at the May 1, 2004, deadline.

12. Date: August 12, 2004.

Time: 8:30 a.m. to 5 p.m.

Room: 415.

Program: This meeting will review applications for American Studies I in Fellowships, submitted to the Division of Research Programs at the May 1, 2004, deadline.

13. Date: August 13, 2004.

Time: 8:30 a.m. to 5 p.m.

Room: 315.

Program: This meeting will review applications for Political Science and Jurisprudence in Fellowships, submitted to the Division of Research Programs at the May 1, 2004, deadline.

14. Date: August 16, 2004.

Time: 8:30 a.m. to 5 p.m.

Room: 315.

Program: This meeting will review applications for Religious Studies I in Fellowships, submitted to the Division of Research Programs at the May 1, 2004, deadline.

15. Date: August 17, 2004.

Time: 8:30 a.m. to 5 p.m.

Room: 315.

Program: This meeting will review applications for Philosophy I in Fellowships, submitted to the Division of Research Programs at the May 1, 2004, deadline.

16. Date: August 17, 2004.

Time: 8:30 a.m. to 5 p.m.

Room: 415.

Program: This meeting will review applications for Philosophy II in Fellowships, submitted to the Division of Research Programs at the May 1, 2004, deadline.

17. Date: August 19, 2004.

Time: 8:30 a.m. to 5 p.m.

Room: 315.

Program: This meeting will review applications for Humanities and Society in Faculty Research Awards, submitted to the Division of Research Programs at the May 1, 2004, deadline.

18. Date: August 19, 2004.

Time: 8:30 a.m. to 5 p.m.

Room: 415.

Program: This meeting will review applications for Comparative Literature and Literary Criticism in Fellowships, submitted to the Division of Research Programs at the May 1, 2004, deadline.

19. Date: August 20, 2004.

Time: 8:30 a.m. to 5 p.m.

Room: 315.

Program: This meeting will review applications for Rhetoric, Communication, and Theater in Fellowships, submitted to the Division of Research Programs at the May 1, 2004, deadline.

20. Date: August 30, 2004.

Time: 8:30 a.m. to 5 p.m.

Room: 315.

Program: This meeting will review applications for NEH/JUSFC in Fellowships for Advanced Research on Japan, submitted to the Division of Research Programs at the May 1, 2004, deadline.

Daniel Schneider,
Advisory Committee Management Officer.

[FR Doc. 04-16257 Filed 7-16-04; 8:45 am]

BILLING CODE 7536-01-P